DEPARTMENT OF ENERGY

Western Area Power Administration

Pick-Sloan Missouri Basin Program—Eastern Division—Notice of Order Confirming and Approving an Extension of the Firm Power Service and Firm Peaking Power Service-Rate Order No. WAPA-102

AGENCY: Western Area Power Administration, DOE.

ACTION: Notice of rate order.

SUMMARY: This action is to extend the existing Pick-Sloan Missouri Basin Program-Eastern Division (P-SMBP-ED) firm power service and firm peaking power service rates through March 31, 2004. Without this action, the existing firm power and firm peaking power rates will expire September 30, 2003; and no rates will be in effect for these services.

FOR FURTHER INFORMATION CONTACT: Mr. Robert F. Riehl, Rates Manager, Upper Great Plains Customer Service Region, Western Area Power Administration, PO Box 35800, Billings, MT 59107-5800, telephone (406) 247-7388, e-mail riehl@wapa.gov.

SUPPLEMENTARY INFORMATION: By Delegation Order No. 00-037.00, approved December 6, 2001, the Secretary delegated (1) the authority to develop power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC).

Western submitted its firm power service and firm peaking power service rates to the FERC for confirmation and approval on January 10, 1994. On July 14, 1994, in Docket No. EF94-5031-000 at 68 FERC ¶ 62,040, the FERC issued an order confirming, approving, and placing into effect on a final basis the firm power service and the firm peaking power service rates for the P-SMBP-ED. The rates set forth in Rate Order No. WAPA-60 were approved for 5 years beginning February 1, 1994, and ending January 31, 1999. On October 16, 1998, upon signing Rate Order No. WAPA-83, the Deputy Secretary extended the existing rates for 2 years beginning February 1, 1999, and ending January 31, 2001. On July 17, 2000, upon signing Rate Order No. WAPA-90, the Deputy Secretary further extended the existing rates for 2 years and 8 months beginning February 1, 2001, and ending September 30, 2003. On September 30, 2003, the P-SMBP-ED firm power service and firm peaking power service rates will expire.

Western's P-SMBP-ED is entering a public process to modify our firm power service and firm peaking power service rates. Western is seeking this extension to provide more time for the evaluation of costs and revenue projections, and to assess the impact of the ongoing drought in the West. Therefore, time requirements make it necessary to extend the current rates pursuant to 10 CFR part 903.23. Upon its approval, Rate Order No. WAPA-60, previously extended under Rate Order No. WAPA-83 and Rate Order No. WAPA-90 will be extended under Rate Order No. WAPA-102.

I approved Rate Order No. WAPA-102 after DOE reviewed Western's proposal. My approval extends the existing Pick-Sloan firm power service and firm peaking power service Rate Schedules P-SED-F6 and P-SED-FP6 from October 1, 2003, until March 31, 2004.

Dated: May 14, 2003.
Kyle E. McSlarrow,
Deputy Secretary.

This firm power service and firm peaking power service rate was established in accordance with section 302(a) of the Department of Energy (DOE) Organization Act, 42 U.S.C. 7152. This act transferred to and vested in the Secretary of Energy (Secretary) the power marketing functions of the Secretary of the Department of the Interior and the Bureau of Reclamation under the Reclamation Act of 1902, ch. 1093, 32 Stat. 388, as amended and supplemented by subsequent enactments, particularly section 9(c) of the Reclamation Project Act of 1939, 43 U.S.C. 485h(c), and other acts that specifically apply to the project system involved.

By Delegation Order No. 00-037.00, approved December 6, 2001, the Secretary delegated (1) The authority to develop power and transmission rates on a non-exclusive basis to Western's Administrator; (2) the authority to confirm, approve, and place such rates into effect on an interim basis to the Deputy Secretary; and (3) the authority to confirm, approve, and place into effect on a final basis, to remand, or to disapprove such rates to the Federal Energy Regulatory Commission (FERC). This rate extension is issued following the Delegation Order and the DOE rate extension procedures at 10 CFR part 903.23(b).

Background

On July 14, 1994, in Docket No. EF94-5031-000 at 68 FERC ¶ 62,040, FERC confirmed, approved, and placed in effect on a final basis, the firm power service and firm peaking power service rates for the P-SMBP-ED. The rates were approved for 5 years beginning February 1, 1994, and ending January 31, 1999. On October 16, 1998, upon signing Rate Order No. WAPA-83, the Deputy Secretary extended the existing rates for 2 years beginning February 1, 1999, and ending January 31, 2001. On July 17, 2000, upon signing Rate Order No. WAPA-90, the Deputy Secretary further extended existing rates for a 2 year and 8 month period beginning February 1, 2001, and ending September 30, 2003.

Discussion

Western's P-SMBP-ED is entering a public process to modify our firm power service and firm peaking power service rates. Western seeks this extension to provide more time for the evaluation of costs and revenue projections, and to assess the impact of the ongoing drought in the West. Therefore, time requirements make it necessary to extend the current rates pursuant to 10 CFR part 903.23. Upon its approval, Rate Order No. WAPA-60, previously extended under Rate Order No. WAPA-83 and Rate Order No. WAPA-90 will be extended under Rate Order No. WAPA-102.

Western proposes to extend the existing P-SMBP-ED firm power service and firm peaking power service rates until March 31, 2004, to allow time to evaluate costs and complete the public process.

Order

In view of the above and under the authority delegated to me by the Secretary, I hereby extend the existing P-SMBP-ED firm power service and firm peaking power service Rate Schedules P-SED-F6 and P-SED-FP6 from October 1, 2003, until March 31, 2004.

Dated: May 14, 2003.
Kyle E. McSlarrow,
Deputy Secretary.

[FR Doc. 03-13855 Filed 6-2-03; 8:45 am]

BILLING CODE 6450-01-P